DEPARTMENT OF HOMELAND SECURITY

Coast Guard

33 CFR Chapter I

46 CFR Chapters I and III

49 CFR Chapter IV

[USCG-2003-14505]

Coast Guard Transition to Department of Homeland Security; Technical Amendments Reflecting Organizational Changes

AGENCY: Coast Guard, DHS.

ACTION: Final rule; correction.

SUMMARY: The Coast Guard published in the Federal Register of February 28, 2003, a document concerning technical changes to various parts of titles 33 (Navigation and Navigable Waters), 46 (Shipping), and 49 (Cargo containers) of the Code of Federal Regulations. Inadvertently, four technical changes to revise chapter headings were omitted. This document adds those four changes.

DATES: Effective on March 1, 2003.

FOR FURTHER INFORMATION CONTACT: If you have questions on this rule, call James McLeod, Project Manager, Office of Regulations and Administrative Law (G-LRA), Coast Guard, at 202-267-6233. If you have questions on viewing, or submitting material to, the docket, call Dorothy Beard, Chief, Dockets, Department of Transportation, at 202-366-5149.

SUPPLEMENTARY INFORMATION: The Coast Guard published a document in the Federal Register of February 28, 2003, (68 FR 9533) making technical changes to various parts of titles 33 (Navigation and Navigable Waters) and 46 (Shipping) of the Code of Federal Regulations. We changed “Department of Transportation” to the “Department of Homeland Security” in specified sections in 33 CFR Chapter I and 46 CFR Chapter I. Inadvertently, four technical changes revising Chapter headings in Titles 33, 46, and 49 of the Code of Federal Regulations were omitted. This document adds those changes.

(1) In rule FR Doc. 03-4763 published on February 28, 2003, (68 FR 9533) make the following corrections. On page 9534, in the second column, change the number of amendatory instruction “1” to “1a”, add the words “COAST GUARD, DEPARTMENT OF HOMELAND SECURITY” to the heading for 33 CFR Chapter I and add a new amendatory instruction 1 to read:

1. The title 33, chapter I heading is revised to read as set forth above.

(2) On page 9535, in the second column, add the words “COAST GUARD, DEPARTMENT OF HOMELAND SECURITY” to the heading for 46 CFR Chapter I and add a new amendatory instruction 26a to read:

26a. The title 46, chapter I heading is revised to read as set forth above.

(3) On page 9535, in the third column immediately following amendatory instruction 30, add the heading “46 CFR Chapter III—COAST GUARD (Great Lakes Pilotage), DEPARTMENT OF HOMELAND SECURITY” and add a new amendatory instruction 31 to read:

31. The title 46, chapter III heading is revised to read as set forth above.

(4) On page 9535, in the third column immediately following amendatory instruction 31, add the heading “49 CFR Chapter IV—COAST GUARD, DEPARTMENT OF HOMELAND SECURITY” and add a new amendatory instruction 32 to read:

32. The title 49, chapter IV heading is revised to read as set forth above.

Dated: March 25, 2003.
Robert F. Duncan,
Rear Admiral, U.S. Coast Guard, Chief Counsel.

[FR Doc. 03-8284 Filed 4-7-03; 8:45 am]

BILLING CODE 4910-15-P